NATIONAL SCIENCE FOUNDATION

National Science Board; Sunshine Act Meetings; Notice

The National Science Board's Committee on Strategy and Budget, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

DATE AND TIME: Wednesday, July 6th at 8 a.m.-3 p.m., E.D.T.

SUBJECT MATTER: Discussion of NSF's FY 2013 Budget.

STATUS: Closed.

This meeting will be held at the National Science Foundation, 4201 Wilson Blvd., Arlington, VA 22230.

Please refer to the National Science Board Web site (http://www.nsf.gov/nsb/notices/) for information or schedule updates, or contact: Blane Dahl, National Science Foundation, 4201 Wilson Blvd., Arlington, VA 22230. Telephone: (703) 292-7000.

Ann Ferrante,
Writer-Editor.

[FR Doc. 2011-16112 Filed 6-23-11; 4:15 pm]

BILLING CODE 7555-01-P